DEPARTMENT OF THE TREASURY

Office of Foreign Assets Control

Additional Designation of Individuals and Entities Pursuant to Executive Order 12978

AGENCY: Office of Foreign Assets Control, Treasury.

ACTION: Notice.

SUMMARY: The Treasury Department's Office of Foreign Assets Control (“OFAC”) is publishing the names of eight newly-designated individuals and entities whose property and interests in property are blocked pursuant to Executive Order 12978 of October 21, 1995, “Blocking Assets and Prohibiting Transactions with Significant Narcotics Traffickers.”

DATES: The designation by the Director of OFAC of the eight individuals and entities identified in this notice pursuant to Executive Order 12978 is effective on August 28, 2008.

FOR FURTHER INFORMATION CONTACT: Assistant Director, Compliance Outreach & Implementation, Office of Foreign Assets Control,Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued Executive Order 12978 (60 Fed. Reg. 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia, or to materially assist in, or provide financial or technological support for or goods or services in support of, the narcotics trafficking activities of persons designated in or pursuant to the order; and (3) persons determined by the Secretary of the Treasury, in consultation with the Attorney General and the Secretary of State, to be owned or controlled by, or to act for or on behalf of, persons designated pursuant to the Order.

On August 28, 2008, the Director of OFAC, in consultation with the Attorney General and Secretary of State, as well as the Secretary of Homeland Security, designated eight individuals and entities whose property and interests in property are blocked pursuant to the Order.

The list of additional designees is as follows:

1. ALMACEN Y COMPRAVENTA LOS 3 OROS, Carrera 7 No. 11-60, Cartago, Valle, Colombia; NIT # 16219873-3 (Colombia) [SDNT].

2. GANADERIA ARIZONA, Carrera 43A No. 1 Sur-188 of. 903, Medellin, Colombia; Hacienda Arizona, Caucasia, Antioquia, Colombia; NIT # 10026001-7 (Colombia) [SDNT].

3. GRANJA PORCICOLA LA FORTALEZA, Carrera 22 No. 8-71, Cartago, Valle, Colombia; Vda. La Hondura, Cartago, Valle, Colombia; NIT # 31423447-7 (Colombia) [SDNT].

4. MOTEL MOMENTOS E.U., Carrera 22 No. 8-71, Cartago, Valle, Colombia; NIT # 900089381-9 (Colombia) [SDNT].

5. RESTREPO ENCIZO, Luz Piedad, c/o GRANJA PORCICOLA LA FORTALEZA, Cartago, Valle, Colombia; c/o MOTEL MOMENTOS E.U., Cartago, Valle, Colombia; Calle 17 Bis. 2N-74, Cartago, Valle, Colombia; DOB 27 Dec 1975; POB Sevilla, Valle, Colombia; Cedula No. 31423447 (Colombia); Passport AH411251 (Colombia) (individual) [SDNT].

6. SANCHEZ JIMENEZ, Jesus Maria Alejandro (a.k.a. “CHUCHO”; a.k.a. “EL PRIMO”; a.k.a. “SCUBI”; a.k.a. “SCUBY”), c/o GANADERIA ARIZONA, Medellin, Colombia; Calle 11 No. 23-80, Pereira, Colombia; Hacienda Arizona, Caucasia, Antioquia, Colombia; DOB 06 Nov 1975; POB Pereira, Colombia; Cedula No. 10026001 (Colombia); Passport AF400955 (Colombia) (individual) [SDNT].

7. SANCHEZ RUA, Rafael Angel, c/o ALMACEN Y COMPRAVENTA LOS 3 OROS, Cartago, Valle, Colombia; c/o GRANJA PORCICOLA LA FORTALEZA, Cartago, Valle, Colombia; c/o MOTEL MOMENTOS E.U., Cartago, Valle, Colombia; Calle 17 Bis. No. 2N-74, Cartago, Valle, Colombia; Finca El Encanto, Anserma, Colombia; Finca La Fortaleza, Anserma, Colombia; Finca La Perlita, Anserma, Colombia; Finca La Quichita, Anserma, Colombia; Finca Quiebra de Italia, Anserma, Colombia; DOB 22 Aug 1966; POB Ansermanuevo, Valle, Colombia; Cedula No. 16219873 (Colombia); Passport AF866705 (Colombia) (individual) [SDNT].

8. VIEDMA ABONCE, Marisol, c/o ALMACEN Y COMPRAVENTA LOS 3 OROS, Cartago, Valle, Colombia; c/o MOTEL MOMENTOS E.U., Cartago, Valle, Colombia; Calle 10B No. 14A-90 Manz. C Casa 14, Cartago, Valle, Colombia; DOB 30 Mar 1970; Cedula No. 31415437 (Colombia) (individual) [SDNT].

Dated: August 28, 2008.
Adam J. Szubin,
Director, Office of Foreign Assets Control.

[FR Doc. E8-20573 Filed 9-4-08; 8:45 am]

BILLING CODE 4811-45-P